DEPARTMENT OF JUSTICE

Notice of Lodging of Consent Decree Under Massachusetts General Laws Chapter 21E

Notice is hereby given that on April 2, 2012, a proposed Consent Decree in United States v. NuStar Terminals Services, Inc., et al., Civil Action No. 1:12-cv-10585-DJC, was lodged with the United States District Court for the District of Massachusetts.

In this action, the United States of America (“United States”), on behalf of the Secretary of the Army and the Administrator of the United States Environmental Protection Agency, filed a complaint pursuant to Chapter 21E of the Massachusetts General Laws (“Mass. Gen. L. ch. 21E”), seeking reimbursement of costs the United States has incurred and will incur in responding to contamination resulting from past leakage of liquid aviation fuel from a section of pipeline located within the Massachusetts Military Reservation on Cape Cod, Massachusetts. The pipeline was owned and operated by the Standard Transmission Corporation. The complaint alleges that NuStar Terminals Services, Inc. and SGH Enterprises, Inc. (the “Settling Defendants”) are successors to Standard Transmission Corporation. SGH Enterprises, Inc. has a claim for indemnification with respect to this matter against W.R. Grace & Co. (the “Other Settling Party”).

The proposed Consent Decree requires the Settling Defendants and the Other Settling Party to pay a total of $21 million, plus interest, to the United States, in reimbursement of response costs incurred by the United States relating to the pipeline leakage. Of this total, NuStar Terminals Services, Inc. is to pay $11.7 million, plus interest; SGH Enterprises, Inc. is to pay $1.86 million, plus interest; and W.R. Grace & Co. is to pay $7.44 million, plus interest. As part of the settlement, the proposed Consent Decree includes a covenant by the United States not to sue under Mass. Gen. L. ch. 21E, under sections 106 and 107 of the Comprehensive Environmental Response, Compensation, and Liability Act, 42 U.S.C. 9606, 9607, and under section 7003 of the Resource Conservation and Recovery Act (“RCRA”), 42 U.S.C. 6973.

The Department of Justice will receive for a period of thirty (30) days from the date of this publication comments relating to the proposed Consent Decree. Comments should be addressed to the Assistant Attorney General, Environment and Natural Resources Division, and either emailed to pubcomment-ees.enrd@usdoj.gov or mailed to P.O. Box 7611, U.S. Department of Justice, Washington, DC 20044-7611, and should refer to this case: United States v. NuStar Terminals Services, Inc., et al., Civil Action No. 1:12-cv-10585-DJC, D.J. Ref. No. 90-11-2-975. Commenters may request an opportunity for a public meeting in the affected area, in accordance with section 7003(d) of RCRA, 42 U.S.C. 6973(d).

During the public comment period, the Consent Decree may be examined on the following Department of Justice Web site, http://www.usdoj.gov/enrd/Consent_Decrees.html. A copy of the proposed Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation no. (202) 514-5271. If requesting a copy from the Consent Decree Library, please enclose a check in the amount of $8.00 (25 cents per page reproduction cost) payable to the “U.S. Treasury” or, if by email or fax, forward a check in that amount to the Consent Decree Library at the address given above.

Ronald G. Gluck,
Assistant Section Chief, Environmental Enforcement Section, Environment and Natural Resources Division.

[FR Doc. 2012-8640 Filed 4-10-12; 8:45 am]

BILLING CODE 4410-15-P